NUCLEAR REGULATORY COMMISSION

[Docket Nos. 50-250-LA and 50-251-LA ASLBP No. 15-935-02-LA-BD01]

Atomic Safety and Licensing Board; In the Matter of Florida Power & Light Company (Turkey Point Nuclear Generating, Units 3 and 4)

December 2, 2015.

Before Administrative Judges:

Michael M. Gibson, Chairman

Dr. Michael F. Kennedy

Dr. William W. Sager

Notice of Hearing

The Atomic Safety and Licensing Board hereby gives notice that it will convene an evidentiary hearing on January 11, 2016, to receive testimony and exhibits regarding license amendments issued to Florida Power & Light Company (FPL) that increase the temperature limit for the cooling canals at Turkey Point Nuclear Generating Units 3 and 4, located near Homestead, Florida.¹ The hearing will begin at 9:30 a.m. EST on January 11, 2016, at the Hampton Inn & Suites in Miami South/Homestead, and continue from day-to-day until completed. The Board also hereby gives notice that it will accept written limited appearance statements from members of the public regarding the license amendment.

¹ See License Amendment; Issuance, Opportunity to Request a Hearing, and Petition for Leave to Intervene, 79 FR. 47,689, 47,690 (Aug. 14, 2014); Environmental Assessment and Final Finding of No Significant Impact, Issuance, 79 FR. 44,464, 44,466 (July 31, 2014).

I. Background

This proceeding concerns the cooling canal system (CCS) at Turkey Point Units 3 and 4, which provides a heat sink for the plant's safety systems.² In the CCS, heated water discharged from the plant flows over a 13-mile loop before returning to the plant for recirculation for cooling purposes.³ The technical specifications set during the 2002 license renewal establish a water temperature limit of 100 degrees Fahrenheit, as measured at the point of intake back into the plant.⁴ Should FPL exceed the temperature limit, Units 3 and 4 would be required to undergo a dual unit shutdown.⁵

² 79 FR 44,466.

³ Id.

⁴ Id.

⁵ Id.

The cooling canals approached the water temperature limit in July 2014, leading FPL to request license amendments to raise the limit to 104 degrees Fahrenheit.⁶ The Nuclear Regulatory Commission (NRC) granted the license amendments on August 8, 2014, and published a notice in the Federal Register informing the public of the opportunity to request a hearing concerning the license amendments.⁷ In response, Citizens Allied for Safe Energy, Inc. (CASE), filed a petition to intervene and proffered four contentions challenging the license amendments.⁸ This Board was established on October 21, 2014, to preside over this proceeding,⁹ and heard oral argument regarding the admissibility of CASE's four proffered contentions on January 14, 2015, in Homestead, Florida.¹⁰

⁶ Id. at 44,465; see Letter from Michael Kiley, Vice President, FPL, to NRC, License Amendment Request No. 231, Application to Revise Technical Specifications to Revise Ultimate Heat Sink Temperature Limit (July 10, 2014) (ADAMS Accession No. ML14196A006).

⁷ 79 FR 44,466; see Letter from Audrey Klett, Project Manager, NRC to Mano Nazar, President and Chief Nuclear Officer, NextEra Energy, Turkey Point Nuclear Generating Units Nos. 3 and 4—Issuance of Amendments under Exigent Circumstances Regarding Ultimate Heat Sink and Component Cooling Water Technical Specifications (Aug. 8, 2014) (ADAMS Accession No. ML14199A107).

⁸ See Citizens Allied for Safe Energy, Inc. Petition to Intervene and Request for a Hearing (Oct. 14, 2014).

⁹ Florida Power & Light Company: Establishment of Atomic Safety and Licensing Board, 79 FR 64,840, 64,840 (Oct. 31, 2014).

¹⁰ Tr. at 1-210.

On March 23, 2015, the Board granted CASE's hearing request and admitted one of its four proffered contentions.¹¹ The admitted contention states:

¹¹ LBP-15-13, 81 NRC 456, 476 (2015).

The NRC's environmental assessment, in support of its finding of no significant impact related to the 2014 Turkey Point Units 3 and 4 license amendments, does not adequately address the impact of increased temperature and salinity in the CCS on saltwater intrusion arising from (1) migration out of the CCS; and (2) the withdrawal of fresh water from surrounding aquifers to mitigate conditions within the CCS.¹²

¹² Id.

After admitting this contention, the Board ruled that the procedures of Subpart L will be used for this proceeding.¹³ The parties to this proceeding (CASE, FPL, and the NRC Staff) have filed written testimony and exhibits on the merits of this admitted contention, which will be the sole matter under consideration at the evidentiary hearing.

¹³ See Licensing Board Initial Scheduling Order (May 8, 2015) at 2 (unpublished).

II. Hearing Date, Time, and Location

The evidentiary hearing will commence on Monday, January 11, 2016, at 9:30 a.m. EST and continue through Tuesday, January 12, 2016, at 5:00 p.m. EST, unless the Board concludes the hearing earlier. The evidentiary hearing will take place at the: Hampton Inn & Suites—Miami South/Homestead, 2855 NE 9th Street, Homestead, Florida 33033.

Members of the public and the media are welcome to attend and observe the evidentiary hearing, which will involve technical, scientific, and legal questions and testimony. Participation in the hearing, however, will be limited to the parties, their representatives, and their witnesses. Please be aware that security measures will be employed at the entrance to the hearing location, including searches of hand-carried items such as briefcases, backpacks, or purses. In accordance with NRC policy, no signs, banners, posters, or other displays will be permitted inside the hearing room.¹⁴ The rules and policies regarding the possession of weapons in United States Courthouses and United States Federal Buildings in the State of Florida shall apply to all proceedings conducted in Florida by the Atomic Safety and Licensing Board of the U.S. Nuclear Regulatory Commission.¹⁵ No firearms or other weapons are allowed in the hearing room. This policy does not apply to federal, state, or local law enforcement personnel while in the performance of their official duties.

¹⁴ See Procedures for Providing Security Support for NRC Public Meetings/Hearings, 66 FR 31,719 (June 12, 2001).

¹⁵ See 18 U.S.C. § 930.

III. Limited Appearance Statements

As provided in 10 CFR 2.315(a), any person (other than a party or the representative of a party to this proceeding) may submit a written statement, known as a limited appearance statement, setting forth a position on matters of concern related to this proceeding.

Although these statements are not considered testimony or evidence, and are not made under oath, they nonetheless may assist the Board or the parties in considering the issues in this proceeding.¹⁶ Anyone who submits a limited appearance statement, however, should be aware that the jurisdiction of this Board and the scope of this proceeding are limited solely to the license amendments described above, and, more particularly, to the specific issues described in the admitted contention.

¹⁶ 10 CFR 2.315(a).

Written limited appearance statements must be submitted by January 15, 2016, and should be sent by mail, fax, or email to both the Office of the Secretary and the Chairman of this Licensing Board:

Office of the Secretary

Mail: Office of the Secretary, Rulemakings and Adjudications Staff, U.S. Nuclear Regulatory Commission Washington, DC 20555-0001.

Fax: (301) 415-1101 (verification (301) 415-1966).

Email: hearingdocket@nrc.gov.

Chairman of the Licensing Board

Mail: Administrative Judge Michael M. Gibson, Chairman, c/o Nicole Pepperl & Jennifer Scro, Board Law Clerks, Mail Stop T-3F23, U.S. Nuclear Regulatory Commission Washington, DC 20555-0001.

Fax: (301) 415-5599 (verification (301) 415-4128).

Email: Nicole.Pepperl@nrc.gov & Jennifer.Scro@nrc.gov.

IV. Document Availability

Documents relating to this proceeding are available for public inspection, physically at the NRC's Public Document Room or electronically from the publicly available records component of NRC's document system (ADAMS). ADAMS is accessible from the NRC Web site at www.nrc.gov/reading-rm/adams.html. Persons who do not have access to ADAMS or who encounter problems in accessing the documents located in ADAMS may contact the NRC Public Document Room reference staff by telephone at (800) 397-4209 or (301) 415-4737, or by email to pdr@nrc.gov. Reference staff are available Monday through Friday between 8:00 a.m. and 4:00 p.m. ET, except federal holidays.

It is so ordered.

For the Atomic Safety and Licensing Board.
Dated: December 2, 2015.
Michael M. Gibson,
Chairman, Administrative Judge.

[FR Doc. 2015-30885 Filed 12-7-15; 8:45 am]

BILLING CODE 7590-01-P